DEPARTMENT OF LABOR

Employment and Training Administration

[NAFTA—03151]

A and M, Inc. d/b/a Homemaker North Charleston, SC; Amended Certification Regarding Eligibility To Apply for NAFTA-Transitional Adjustment Assistance

In accordance with Section 250(A), Subchapter D, Chapter 2, Title II, of the Department of Labor issued a Certification for NAFTA Transitional Adjustment Assistance on June 25, 1999, applicable to workers of Homemaker Industries, Inc. located in North Charleston, South Carolina. The notice was published in the Federal Register on July 20, 1999 (64 FR 38922).

At the request of the State agency, the Department reviewed the certification for workers of the subject firm. The workers are engaged in the production of braided rugs. New information received from the company shows that on April 17, 2000, A and M, Inc. purchased Homemaker Industries, Inc. and became known as A and M Inc., d/b/a Homemaker. Information also shows that workers separated from employment at Homemaker Industries, Inc. had their wages reported under a separate unemployment insurance (UI) tax account for A and M, Inc., d/b/a Homemaker.

Accordingly, the Department is amending the certification to properly reflect this matter.

The intent of the Department's certification is to include all workers of Homemaker Industries, Inc. who were adversely affected by the shift of production to Mexico.

The amended notice applicable to NAFTA—03151 is hereby issued as follows:

All workers of A and M, Inc., d/b/a Homemaker, North Charleston, South Carolina who became totally or partially separated from employment on or after May 4, 1998 through June 25, 2001 are eligible to apply for NAFTA-TAA under Section 250 of the Trade Act of 1974.

Signed at Washington, D.C. this 27th day of April, 2000.
Grant D. Beale,
Program Manager, Division of Trade Adjustment Assistance.

[FR Doc. 00-11118 Filed 5-3-00; 8:45 am]

BILLING CODE 4510-30-M